DEPARTMENT OF DEFENSE

Department of the Navy

[Docket ID: USN-2009-0003]

Privacy Act of 1974; System of Records

AGENCY: Department of the Navy, DoD.

ACTION: Notice to alter a system of records.

SUMMARY: The Department of the Navy proposes to alter a system of records notice in its existing inventory of records systems subject to the Privacy Act of 1974, (5 U.S.C. 552a), as amended.

DATES: This proposed action will be effective without further notice on March 23, 2009 unless comments are received which result in a contrary determination.

ADDRESSES: Send comments to the Department of the Navy, PA/FOIA Policy Branch, Head of Naval Operations (DNS-36), 2000 Navy Pentagon, Washington, DC 20350-2000.

FOR FURTHER INFORMATION CONTACT: Ms. Miriam Brown-Lam, (202) 685-6545.

SUPPLEMENTARY INFORMATION: The Department of the Navy's systems of records notices subject to the Privacy Act of 1974, (5 U.S.C. 552a), as amended, have been published in the Federal Register and are available from the address above.

The proposed system reports, as required by 5 U.S.C. 552a(r), of the Privacy Act of 1974, as amended, were submitted on February 11, 2009, to the House Committee on Oversight and Government Reform, the Senate Committee on Homeland Security and Governmental Affairs, and the Office of Management and Budget (OMB) pursuant to paragraph 4c of Appendix I to OMB Circular No. A-130, ‘Federal Agency Responsibilities for Maintaining Records About Individuals,’ dated February 8, 1996 (February 20, 1996, 61 FR 6427).

Dated: February 12, 2009.
Morgan E. Frazier,
Alternate OSD Federal Register Liaison Officer, Department of Defense.

NM01500-2

System name:

Department of the Navy (DON) Education and Training Records (November 22, 2005, 70 FR 70594).

Changes:

* * * * *

System location:

Delete entry and replace with “Student records are located at schools and other training activities or elements of the Department of the Navy, to include the U.S. Navy and the U.S. Marine Corps. Official mailing addresses are published as an appendix to the Navy's compilation of systems of records notices.

Sailor/Marine American Council on Education Registry Transcript (SMART) database is maintained at the Naval Educational and Training Professional Development Technology Center, Code N6, 6490 Saufley Field Road, Pensacola, FL 32509-5237.

Vertical Launch System (VLS) records are maintained at the Naval Surface Warfare Center, Port Hueneme Division, Missile/Launcher Department, Launcher Systems Division (4W20), 4363 Missile Way, Port Hueneme, CA 93043-4307.

Student and individual Marine training and education records are maintained in the Training and Education Command (TECOM) Integrated Management System (TIMS) database located at the USMC (TECOM), 3300 Russell Road, Quantico VA 22134-5001.

The Corporate enterprise Training Activity Resource System (CeTARS) is maintained at the Naval Education Training Professional Development Technology Center (NETPDTC), 6490 Saufley Field Road, Pensacola, FL 32509-5235.”

Categories of individuals covered by the system:

Delete entry and replace with “Student records cover present, former and prospective students at Navy and Marine Corps schools and other training activities or associated educational institution of Navy sponsored programs; instructors, staff and support personnel; participants associated with activities of the Naval Education and Training Command, including the Navy College Office and other training programs; tutorial and tutorial volunteer programs; dependents' schooling.

SMART records cover Active duty Navy and Marine Corps members, reservists, and separated or retired Navy and Marine Corps members.

VLS records cover civilians, active duty Navy members and Department of the Navy contractors.

TIMS records include the student records for Marines and other service students attending Marine schools, Marines students attending other service's schools, Marine's classes/courses from educational institutions, and the record of each Marines' training and education in an individual electronic training jacket for active and reserve Marine Corps personnel.

CeTARS records include those of former, present, and prospective military service members, foreign nationals, DoD civilians and contractor personnel.”

Categories of records in the system:

Delete entry and replace with “Student records: Schools and personnel training programs administration and evaluation records. Such records as basic identification records i.e., Social Security Number, name, gender, date of birth, personnel records i.e., rank/rate/grade, branch of service, billet, expiration of active obligated service, professional records i.e., Navy enlisted classification, military occupational specialty for Marines, subspecialty codes, test scores, psychological profile, basic test battery scores, and Navy advancement test scores. Educational records i.e., education levels, service and civilian schools attended, degrees, majors, personnel assignment data, course achievement data, class grades, class standing, and attrition categories. Academic/training records, manual and mechanized, and other records of educational and professional accomplishment.

SMART records: Certified to be true copies of service record page 4; certificates of completion; college transcripts; test score completions; grade reports; Request for Sailor/Marine American Council on Education Registry Transcript.

VLS records: Name, quiz scores, homework scores, and test scores. In those instances when the student has performed below the minimum requirements, copies of the minutes of the Academic Review Board will be included.

TIMS records: Includes student records data as shown above, the individual record of “all things training and education” for each Marine in a individual Electronic Training Jacket, the assignment to “promotion points” for specific completed training course and identifies the skills, proficiencies and courses/classes for current and higher Military Occupational Specialty (MOS) requirements.

CeTARS records: Contains personnel records for students, instructors and administrative staff members. The data in these personnel records consists of: (1) Basic identification records i.e., Social Security Number, name, sex, date of birth (2) personnel records i.e., rank/rate/grade, branch of service, billet, expiration of active obligated service (3) professional records i.e., Navy enlisted classification, MOS for Marines, subspecialty codes, test scores, psychological profile, basic test battery scores, and Navy advancement test scores (4) Educational records i.e., education levels, service and civilian schools attended, degrees, majors, personnel assignment data, course achievement data, class grades, class standing, and attrition categories (5) Academic/training records, manual and mechanized, and other records of educational and professional accomplishment.”

Purpose(s):

Delete entry and replace with “Student records: To record course and training demands, requirements, and achievements; analyze student groups or courses; provide academic and performance evaluation in response to official inquiries; provide guidance and counseling to students; prepare required reports; and for other training administration and planning purposes.

SMART records: To provide recommended college credit based on military experience and training to colleges and universities for review and acceptance. Requesters may have information mailed to them or the college(s)/university(ies) of their choice.

VLS records: To record course and training demands, requirements, and achievements; analyze student groups or courses; provide academic and performance evaluation in response to official inquiries; and provide guidance and counseling to students.

TIMS records: To provide a database of student records for students attending Marine schools and courses, for Marines attending other service's schools, Marines attending/completing educational institution courses/classes, and to provide an individual record of “all things training and education” for Marine active duty and reserve personnel. Provides the individual Electronic Training Jacket that can be accessed against the unit morning report allowing evaluation against the MOS Roadmap for individual training assessment and requirements. At the unit level, allowing the evaluation of the assigned personnel training assessment against the Marine Corps Training and Readiness Manuals for automated Unit Training Management support, automated unit training readiness assessment, and the determination of unit combat readiness percentage.

CeTARS records: Facilitates the collection, storage, modification, and retrieval of training information about the students attending Navy courses, as well as course-related data and quota data for planning/execution of Navy training.”

* * * * *

Storage:

Delete entry and replace with “Paper records and electronic storage media.”

Retrievability:

Delete entry and replace with “By name, Social Security Number (SSN), and/or date of birth.”

Safeguards:

Delete entry and replace with “Full nine-digit SSNs are transformed to show only the last four digits on the input screens. All output products have been similarly modified showing only the last four digits of the SSN. Physical access to the central computer operations area is provided on a need-to-know basis and to CAC card authorized, authenticated personnel only. Records are maintained in controlled access rooms or areas. Data is limited to personnel training information. Physical access to computer workstations areas is also strictly controlled. Each Information System Security Officer (ISSO) exercises direct authority over workstation area access and physical control of Information System (IS) equipment and the data produced within their area of responsibility. Terminal identification is positive and maintained by control points. Physical access to terminals is restricted to specifically authorized individuals. Password authorization, assignment and monitoring are the responsibility of the functional manager.”

Retention and disposal:

Delete entry and replace with “Student records: Destroyed after completion of training, transfer, or discharge, provided the data has been recorded in the individual's service record or on the student's record card.

SMART records: Automated SMART (transcripts) are retained permanently. Documents submitted to compile, update, or correct SMART records, which include service record page 4s, transcripts, and certificates, are destroyed after 3 years.

VLS records: Destroyed 2 years after completion of training.

TIMS records: Automated TIMS records are retained permanently. The records are utilized for near term and historical assessments including training schools/courses, recruit selection criteria, training requirements, individual course completion, school training through-put, and student attrition.

CeTARS records: Permanent.”

System manager(s) and address:

Delete entry and replace with “Student records: The commanding officer of the activity in question. Official mailing addresses are published as an appendix to the Navy's compilation of systems of records notices.

SMART records: Director, Navy College Center (N2A5), 6490 Saufley Field Road, Pensacola, FL 32509-5204.

VLS records: Department Manager, Naval Surface Warfare Center, Port Hueneme Division, Missile/Launcher Department, Launcher Systems Division, 4363 Missile Way, Port Hueneme, CA 93043-4307.

TIMS records: Commanding General, Training and Education Command, Attn: TIMS Program Manager, 3300 Russell Road, Quantico, VA 22134-5001.

CeTARS records: Commander, Naval Education and Training Professional Development and Technology Center (NETPDTC), Attn: CeTARS Program Director (Code N621), 6490 Saufley Field Road, Pensacola, FL 32509-5235.”

Notification procedure:

Delete entry and replace with “Individuals seeking to determine whether information about themselves is contained in this system should address written inquiries to the appropriate official below:

Student records: Address written inquiries to the commanding officer of the activity in question. Official mailing addresses are published as an appendix to the Navy's compilation of systems of records notices.

Requester should provide full name, Social Security Number (SSN), military or civilian duty status, if applicable, and other data when appropriate, such as graduation date.

SMART records: Address written inquiries to the Director, Navy College Center (N2A5), 6490 Saufley Field Road, Pensacola, FL 32509-5204.

Send a completed “Request for Sailor/Marine American Council on Education Registry Transcript” which solicits full name, command address, current rate/rank, Social Security Number, home and work telephone numbers, current status branch of service, etc., and must be signed.

VLS records: Address written inquiries to the Department Manager, Naval Surface Warfare Center, Port Hueneme Division, Missile/Launcher Department, Launcher Systems Division (4W20), 4363 Missile Way, Port Hueneme, CA 93043-4307.

Requester should provide full name, Social Security Number (SSN), military, civilian, or contractor duty status, if applicable, and other data when appropriate, such as graduation date.

TIMS records: Address written inquiries to the Commanding General, Training and Education Command, Attn: TIMS Program Manager, 3300 Russell Road, Quantico, VA 22134-5001.

Requester should provide a signed request that includes their full name, Social Security Number (SSN), military, civilian, or contractor duty status, if applicable, and other data when appropriate, such as graduation date.

CeTARS records: Address written inquiries to Commander, Naval Education and Training Professional Development and Technology Center (NETPDTC), Attn: CeTARS Program Director (Code N621), 6490 Saufley Field Road, Pensacola, FL 32509-5235.

Requester should provide full name, address, Social Security Number (SSN) and be signed.”

Record access procedures:

Delete entry and replace with “Individuals seeking to access information about themselves contained in this system should address written inquiries to the appropriate official below:

Student records: Address written inquiries to the commanding officer of the activity in question. Official mailing addresses are published as an appendix to the Navy's compilation of systems of records notices.

Requester should provide his full name, Social Security Number (SSN), military or civilian duty status, if applicable, and other data when appropriate, such as graduation date.

SMART records: Address written inquiries to the Director, Navy College Center (N2A5), 6490 Saufley Field Road, Pensacola, FL 32509-5204.

Send a completed “Request for Sailor/Marine American Council on Education Registry Transcript” which solicits full name, command address, current rate/rank, Social Security Number, home and work telephone numbers, current status branch of service, etc., and must be signed.

VLS records: Address written inquiries to the Department Manager, Naval Surface Warfare Center, Port Hueneme Division, Missile/Launcher Department, Launcher Systems Division (4W20), 4363 Missile Way, Port Hueneme, CA 93043-4307.

Requester should provide full name, Social Security Number (SSN), military, civilian or contractor duty status, if applicable, and other data when appropriate, such as graduation date.

TIMS records: Address written inquiries to the Commanding General, Training and Education Command, Attn: TIMS Program Manager, 3300 Russell Road, Quantico, VA 22134-5001.

Requester should provide a signed request that includes their full name, Social Security Number (SSN), military, civilian, or contractor duty status, if applicable, and other data when appropriate, such as graduation date.

CeTARS records: Address written inquiries to the Commander, Naval Education and Training Professional Development and Technology Center (NETPDTC), Attn: CeTARS Program Director (Code N621), 6490 Saufley Field Road, Pensacola, FL 32509-5235.

Requester should provide full name, current rate/rank, Social Security Number (SSN), status, branch of service, and must be signed.”

Record source categories:

Delete entry and replace with “Individual; schools and educational institutions; and instructor personnel; Navy Personnel Command (NPC), Naval Education and Training Command (NETC), Navy Recruiting Command (NRC), USMC Training and Education Command (TECOM); Joint Primary Aircraft Training System (JPATS), Chief of Naval Air Training (CNATRA), Naval Special Warfare Center; or from various other Privacy Act systems.”

* * * * *

NM01500-2

System name:

Department of the Navy (DON) Education and Training Records.

System location:

Student records are located at schools and other training activities or elements of the Department of the Navy, to include the U.S. Navy and the U.S. Marine Corps. Official mailing addresses are published as an appendix to the Navy's compilation of systems of records notices.

Sailor/Marine American Council on Education Registry Transcript (SMART) database is maintained at the Naval Educational and Training Professional Development Technology Center, Code N6, 6490 Saufley Field Road, Pensacola, FL 32509-5237.

Vertical Launch System (VLS) records are maintained at the Naval Surface Warfare Center, Port Hueneme Division, Missile/Launcher Department, Launcher Systems Division (4W20), 4363 Missile Way, Port Hueneme, CA 93043-4307.

Student and individual Marine training and education records are maintained in the Training and Education Command (TECOM) Integrated Management System (TIMS) database located at the USMC (TECOM), 3300 Russell Road, Quantico VA 22134-5001.

The Corporate enterprise Training Activity Resource System (CeTARS) is maintained at the Naval Education Training Professional Development Technology Center (NETPDTC), 6490 Saufley Field Road, Pensacola, FL 32509-5235.

Categories of individuals covered by the system:

Student records cover present, former, and prospective students at Navy and Marine Corps schools and other training activities or associated educational institution of Navy sponsored programs; instructors, staff and support personnel; participants associated with activities of the Naval Education and Training Command, including the Navy College Office and other training programs; tutorial and tutorial volunteer programs; dependents' schooling.

SMART records cover Active duty Navy and Marine Corps members, reservists, and separated or retired Navy and Marine Corps members.

VLS records cover civilians, active duty Navy members, and Department of the Navy contractors.

TIMS records include the student records for Marines and other service students attending Marine schools, Marines students attending other service's schools, Marine's classes/courses from educational institutions, and the record of each Marines' training and education in an individual electronic training jacket for active and reserve Marine Corps personnel.

CeTARS records include those of former, present and prospective military service members, foreign nationals, DoD civilians and contractor personnel.

Categories of records in the system:

Student records: Schools and personnel training programs administration and evaluation records. Such records as basic identification records i.e., Social Security Number, name, sex, date of birth, personnel records i.e., rank/rate/grade, branch of service, billet, expiration of active obligated service, professional records i.e., Navy enlisted classification, military occupational specialty for Marines, subspecialty codes, test scores, psychological profile, basic test battery scores, and Navy advancement test scores. Educational records i.e., education levels, service and civilian schools attended, degrees, majors, personnel assignment data, course achievement data, class grades, class standing, and attrition categories. Academic/training records, manual and mechanized, and other records of educational and professional accomplishment.

SMART records: Certified to be true copies of service record page 4; certificates of completion; college transcripts; test score completions; grade reports; Request for Sailor/Marine American Council on Education Registry Transcript.

VLS records: Name, quiz scores, homework scores, and test scores. In those instances when the student has performed below the minimum requirements, copies of the minutes of the Academic Review Board will be included.

TIMS records: Includes student records data as shown above, the individual record of “all things training and education” for each Marine in a individual Electronic Training Jacket, the assignment to “promotion points” for specific completed training course and identifies the skills, proficiencies and courses/classes for current and higher Military Occupational Specialty (MOS) requirements.

CeTARS records: Contains personnel records for students, instructors and administrative staff members. The data in these personnel records consists of: (1) Basic identification records i.e., Social Security Number, name, sex, date of birth (2) personnel records i.e., rank/rate/grade, branch of service, billet, expiration of active obligated service (3) professional records i.e., Navy enlisted classification, MOS for Marines, subspecialty codes, test scores, psychological profile, basic test battery scores, and Navy advancement test scores (4) Educational records i.e., education levels, service and civilian schools attended, degrees, majors, personnel assignment data, course achievement data, class grades, class standing, and attrition categories (5) Academic/training records, manual and mechanized, and other records of educational and professional accomplishment.

Authority for maintenance of the system:

10 U.S.C. 5013, Secretary of the Navy; 10 U.S.C. 5041, Headquarters, Marine Corps; and E.O. 9397 (SSN).

Purpose(s):

Student records: To record course and training demands, requirements, and achievements; analyze student groups or courses; provide academic and performance evaluation in response to official inquiries; provide guidance and counseling to students; prepare required reports; and for other training administration and planning purposes.

SMART records: To provide recommended college credit based on military experience and training to colleges and universities for review and acceptance. Requesters may have information mailed to them or the college(s)/university(ies) of their choice.

VLS records: To record course and training demands, requirements, and achievements; analyze student groups or courses; provide academic and performance evaluation in response to official inquiries; and provide guidance and counseling to students.

TIMS records: To provide a database of student records for students attending Marine schools and courses, for Marines attending other service's schools, Marines attending/completing educational institution courses/classes, and to provide an individual record of “all things training and education” for Marine active duty and reserve personnel. Provides the individual Electronic Training Jacket that can be accessed against the unit morning report allowing evaluation against the MOS Roadmap for individual training assessment and requirements. At the unit level, allowing the evaluation of the assigned personnel training assessment against the Marine Corps Training and Readiness Manuals for automated Unit Training Management support, automated unit training readiness assessment, and the determination of unit combat readiness percentage.

CeTARS records: Facilitates the collection, storage, modification, and retrieval of training information about the students attending Navy courses, as well as course-related data, and quota data for planning/execution of Navy training.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows: The DoD `Blanket Routine Uses' that appear at the beginning of the Navy's compilation of systems of records notices apply to this system.

Policies and practices for storing, retrieving, accessing, retaining, and disposing of records in the system:

Storage:

Paper records and electronic storage media.

Retrievability:

By name, Social Security Number (SSN) and/or date of birth.

Safeguards:

Full nine-digit Social Security Number (SSN) are transformed to show only the last four digits on the input screens. All output products have been similarly modified showing only the last four digits of the SSN. Physical access to the central computer operations area is provided on a need-to-know basis and to CAC card authorized, authenticated personnel only. Records are maintained in controlled access rooms or areas. Data is limited to personnel training information. Physical access to computer workstations areas is also strictly controlled. Each Information System Security Officer (ISSO) exercises direct authority over workstation area access and physical control of Information System (IS) equipment and the data produced within their area of responsibility. Terminal identification is positive and maintained by control points. Physical access to terminals is restricted to specifically authorized individuals. Password authorization, assignment and monitoring are the responsibility of the functional manager.

Retention and disposal:

Student records: Destroyed after completion of training, transfer, or discharge, provided the data has been recorded in the individual's service record or on the student's record card.

SMART records: Automated SMART (transcripts) are retained permanently. Documents submitted to compile, update, or correct SMART records, which include service record page 4s, transcripts, and certificates, are destroyed after 3 years.

VLS records: Destroyed 2 years after completion of training.

TIMS records: Automated TIMS records are retained permanently. The records are utilized for near term and historical assessments including training schools/courses, recruit selection criteria, training requirements, individual course completion, school training through-put, and student attrition.

CeTARS records: Permanent.

System manager(s) and address:

Student records: The commanding officer of the activity in question. Official mailing addresses are published as an appendix to the Navy's compilation of systems of records notices.

SMART records: Director, Navy College Center (N2A5), 6490 Saufley Field Road, Pensacola, FL 32509-5204.

VLS records: Department Manager, Naval Surface Warfare Center, Port Hueneme Division, Missile/Launcher Department, Launcher Systems Division, 4363 Missile Way, Port Hueneme, CA 93043-4307.

TIMS records: Commanding General, Training and Education Command, Attn: TIMS Program Manager, 3300 Russell Road, Quantico, VA 22134-5001.

CeTARS records: Commander, Naval Education and Training Professional Development and Technology Center (NETPDTC), Attn: CeTARS Program Director (Code N621), 6490 Saufley Field Road, Pensacola, FL 32509-5235.

Notification procedure:

Individuals seeking to determine whether information about themselves is contained in this system should address written inquiries to the appropriate official below:

Student records: Address written inquiries to the commanding officer of the activity in question. Official mailing addresses are published as an appendix to the Navy's compilation of systems of records notices.

Requester should provide his full name, Social Security Number (SSN), military or civilian duty status, if applicable, and other data when appropriate, such as graduation date.

SMART records: Address written inquiries to the Director, Navy College Center (N2A5), 6490 Saufley Field Road, Pensacola, FL 32509-5204.

Send a completed “Request for Sailor/Marine American Council on Education Registry Transcript” which solicits full name, command address, current rate/rank, Social Security Number, home and work telephone numbers, current status branch of service, etc., and must be signed.

VLS records: Address written inquiries to the Department Manager, Naval Surface Warfare Center, Port Hueneme Division, Missile/Launcher Department, Launcher Systems Division (4W20), 4363 Missile Way, Port Hueneme, CA 93043-4307.

Requester should provide full name, Social Security Number (SSN), military, civilian, or contractor duty status, if applicable, and other data when appropriate, such as graduation date.

TIMS records: Address written inquiries to the Commanding General, Training and Education Command, Attn: TIMS Program Manager, 3300 Russell Road, Quantico, VA 22134-5001.

Requester should provide a signed request that includes their full name, Social Security Number (SSN), military, civilian, or contractor duty status, if applicable, and other data when appropriate, such as graduation date.

CeTARS records: Address written inquiries to Commander, Naval Education and Training Professional Development and Technology Center (NETPDTC), Attn: CeTARS Program Director (Code N621), 6490 Saufley Field Road, Pensacola, FL 32509-5235.

Requester should provide full name, address, Social Security Number (SSN) and be signed.

Record access procedures:

Individuals seeking to access information about themselves contained in this system should address written inquiries to the appropriate official below:

Student records: Address written inquiries to the commanding officer of the activity in question. Official mailing addresses are published as an appendix to the Navy's compilation of systems of records notices.

Requester should provide his full name, Social Security Number (SSN), military or civilian duty status, if applicable, and other data when appropriate, such as graduation date.

SMART records: Address written inquiries to the Director, Navy College Center (N2A5), 6490 Saufley Field Road, Pensacola, FL 32509-5204.

Send a completed “Request for Sailor/Marine American Council on Education Registry Transcript” which solicits full name, command address, current rate/rank, Social Security Number, home and work telephone numbers, current status branch of service, etc., and must be signed.

VLS records: Address written inquiries to the Department Manager, Naval Surface Warfare Center, Port Hueneme Division, Missile/Launcher Department, Launcher Systems Division (4W20), 4363 Missile Way, Port Hueneme, CA 93043-4307.

Requester should provide full name, Social Security Number (SSN), military, civilian or contractor duty status, if applicable, and other data when appropriate, such as graduation date.

TIMS records: Address written inquiries to the Commanding General, Training and Education Command, Attn: TIMS Program Manager, 3300 Russell Road, Quantico, VA 22134-5001.

Requester should provide a signed request that includes their full name, Social Security Number (SSN), military, civilian, or contractor duty status, if applicable, and other data when appropriate, such as graduation date.

CeTARS records: Address written inquiries to the Commander, Naval Education and Training Professional Development and Technology Center (NETPDTC), Attn: CeTARS Program Director (Code N621), 6490 Saufley Field Road, Pensacola, FL 32509-5235.

Requester should provide full name, current rate/rank, Social Security Number (SSN), status, branch of service, and must be signed.

Contesting record procedures:

The Navy's rules for accessing records, and for contesting contents and appealing initial agency determinations are published in Secretary of the Navy Instruction 5211.5; 32 CFR part 701; or may be obtained from the system manager.

Record source categories:

Individual; schools and educational institutions; and instructor personnel; Navy Personnel Command (NPC), Naval Education and Training Command (NETC), Navy Recruiting Command (NRC), USMC Training and Education Command (TECOM); Joint Primary Aircraft Training System (JPATS), Chief of Naval Air Training (CNATRA), Naval Special Warfare Center; or from various other Privacy Act systems.

Exemptions claimed for the system:

None.

[FR Doc. E9-3508 Filed 2-18-09; 8:45 am]

BILLING CODE 5001-06-P